DEPARTMENT OF THE INTERIOR

Bureau of Safety and Environmental Enforcement (BSEE)

[Docket ID No. BOEM-2011-0068; OMB Number 1014-0003]

Information Collection Activities: Oil and Gas Production Safety Systems; Submitted for Office of Management and Budget (OMB) Review; Comment Request

ACTION: 30-day Notice.

SUMMARY: To comply with the Paperwork Reduction Act of 1995 (PRA), we are notifying the public that we have submitted to OMB an information collection request (ICR) to renew approval of the paperwork requirements in the regulations under Subpart H, “Oil and Gas Production Safety Systems.” This notice also provides the public a second opportunity to comment on the revised paperwork burden of these regulatory requirements.

DATES: You must submit comments by November 30, 2011.

ADDRESSES: Submit comments by either fax (202) 395-5806 or email (OIRA_DOCKET@omb.eop.gov) directly to the Office of Information and Regulatory Affairs, OMB, Attention: Desk Officer for the Department of the Interior (1014-0003). Please provide a copy of your comments to BSEE by any of the means below.

• Electronically: Go to http://www.regulations.gov. In the entry titled, “Enter Keyword or ID,” enter BOEM-2011-0068 then click search. Follow the instructions to submit public comments and view all related materials. We will post all comments.

• Email cheryl.blundon@bsee.gov. Mail or hand-carry comments to: Department of the Interior; Bureau of Safety and Environmental Enforcement; Regulations Development Branch; Attention: Cheryl Blundon 381 Elden Street, Herndon, Virginia 20170-4817. Please reference 1014-0003 in your comment and include your name and return address.

FOR FURTHER INFORMATION CONTACT: Cheryl Blundon by email at cheryl.blundon@bsee.gov or by telephone at (703) 787-1607, to request additional information about this ICR. To see a copy of the entire ICR submitted to OMB, go to http://www.reginfo.gov (select Information Collection Review, Currently Under Review).

SUPPLEMENTARY INFORMATION: Title: 30 CFR 250, Subpart H, Oil and Gas Production Safety Systems.

Abstract: The Outer Continental Shelf (OCS) Lands Act, as amended (43 U.S.C. 1331 et seq. and 43 U.S.C. 1801 et seq.), authorizes the Secretary to prescribe rules and regulations necessary for the administration of the leasing provisions of that Act related to mineral resources on the OCS. Such rules and regulations will apply to all operations conducted under a lease, pipeline right-of-way, or a right-of-use and easement. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and Office of Management and Budget (OMB) Circular A-25, authorize Federal agencies to recover the full cost of services that confer special benefits. Facility Production Safety System Applications are subject to cost recovery and BSEE regulations specify filing fees for these applications.

This submittal also removes an IC requirement that was inadvertently included in this collection. The requirement pertains to the Pacific Region's Emergency Action Plans that are submitted to local air quality agencies, which is included in the IC for 30 CFR 550, subpart C (§ 550.304).

Regulations implementing these responsibilities are under 30 CFR 250, subpart H. Responses are mandatory. No questions of a sensitive nature are asked. BSEE protects information considered proprietary according to the Freedom of Information Act (5 U.S.C. 552) and its implementing regulations (43 CFR 2), 30 CFR part 252, OCS Oil and Gas Information Program, and 30 CFR 250.197, “Data and information to be made available to the public or for limited inspection.”

BSEE uses the information collected under subpart H to evaluate equipment and/or procedures that lessees and operators propose to use during production operations, including evaluation of requests for departures or use of alternate procedures or equipment. Information is also used to verify that production operations are safe and protect the human, marine, and coastal environment. BSEE inspectors review the records required by this subpart to verify compliance with testing and minimum safety requirements.

The Gulf of Mexico OCS Region (GOMR) has a policy regarding approval of requests to use a chemical-only fire prevention and control system in lieu of a water system. BSEE may require additional information be submitted to maintain approval. The information is used to determine if the chemical-only system provides the equivalent protection of a water system for the egress of personnel should a fire occur.

Frequency: On occasion.

Description of Respondents: Potential respondents comprise Federal oil, gas, or sulphur lessees, operators, and holders of pipeline rights-of-way.

Estimated Reporting and Recordkeeping Hour Burden: The estimated annual hour burden for this information collection is a total of 62,963 hours. The following chart details the individual components and estimated hour burdens. In calculating the burdens, we assumed that respondents perform certain requirements in the normal course of their activities. We consider these to be usual and customary and took that into account in estimating the burden.

Citation 30 CFR 250 subpart H and NTL(s) | Reporting and recordkeeping requirement | Non-hour cost burdens*: Hour burden | Non-hour cost burdens*: Average No. of annual responses | Non-hour cost burdens*: Annual burden Hours
Submittals
800; 801; 802; 803 | Submit application, and all required/supporting information, for a production safety system with > 125 components | 16 | 1 | 16
|  | 5,030 per submission × 1 = $5,030
|  | $13,238 per offshore visit × 1 = $13,238
|  | $6,884 per shipyard visit × 1 = $6,884
| 25-125 components. | 13 | 10 | 130
|  | $1,218 per submission × 10 = $12,180
|  | $8,313 per offshore visit × 1 = $8,313
|  | $4,766 per shipyard visit × 1 = $4,766
| < 25 components | 8 | 20 | 160
|  | $604 per submission × 20 = $12,080
| Submit modification to application for production safety system with >125 components | 9 | 180 | 1,620
|  | $561 per submission × 180 = $100,980
| 25-125 components. | 7 | 758 | 5,306
|  | $201 per submission × 758 = $152,358
| < 25 components. | 5 | 329 | 1,645
|  | $85 per submission × 329 = $27,965
801(a) | Submit application for a determination that a well is incapable of natural flow | 6 | 41 | 246
803(b)(2) | Submit required documentation for unbonded flexible pipe | Burden is submitted with application § 250.802(e) |  | 0
803(b)(8); related NTLs | Request approval to use chemical only fire prevention and control system in lieu of a water system | 22 | 31 | 682
807 | Submit detailed info regarding installing SSVs in an HPHT environment with your APD, APM, DWOP etc. | Burden is covered under 1010-0141. |  | 0
Subtotal |  |  | 1,370 responses | 9,805 hours
|  |  | $343,794 non-hour costs
General
801(h)(2); 803(c) | Identify well with sign on wellhead that subsurface safety device is removed; flag safety devices that are out of service | >Usual/customary safety procedure for removing or identifying out-of-service safety devices |  | 0
802(e), (f), (h)(3); 803(b)(2); | Specific alternate approval requests requiring District Manager approval. | Burden covered under 1010-0114. |  |
803(b)(8)(iv); (v) | Post diagram of firefighting system; furnish evidence firefighting system suitable for operations in subfreezing climates. | 5 | 38 | 190
804(a)(12); 800 | Notify BSEE prior to production when ready to conduct pre-production test and inspection; upon commencement of production for a complete inspection | 1 | 76 | 76
806(c) | Request evaluation and approval of other quality assurance programs covering manufacture of SPPE | 2 | 1 | 2
Subtotal |  |  | 115 responses | 268 hours
Recordkeeping
801(h)(2); 802(e); 804(b) | Maintain records for 2 years on subsurface and surface safety devices to include approved design & installation features, testing, repair, removal, etc; make records available to BSEE | 36 | 615 | 22,140
803(b)(1)(iii), (b)(2)(i) | Maintain pressure-recorder charts | 23 | 615 | 14,145
803(b)(4)(iii) | Maintain schematic of the emergency shutdown (ESD) which indicates the control functions of all safety devices | 15 | 615 | 9,225
803(b)(11) | Maintain records of wells that have erosion-control programs and results for 2 years; make available to BSEE upon request. | 12 | 615 | 7,380
Subtotal |  |  | 2,460 responses | 52,890 hours
Total Burden Hours |  |  | 3,945 responses | 62,963 hours
|  | $343,794 Non-hour cost burdens

Estimated Reporting and Recordkeeping Non-Hour Cost Burden: We have identified 10 non-hour cost burdens, all of which are cost recovery fees required under § 250.802(e). However, the actual fee amounts are specified in 30 CFR 250.125, which provides a consolidated table of all of the fees required under the 30 CFR 250 regulations. The total non-hour cost burdens (cost recovery fees) in this IC request are $343,794.

The non-hour cost burdens required in 30 CFR 250, subpart H (and respective cost-recovery fee amount per transaction) are required as follows:

• Submit application for a production safety system with > 125 components—$5,030 per submission; $13,238 per offshore visit; and $6,884 per shipyard visit.

• Submit application for a production safety system with 25—125 components—$1,218 per submission; $8,313 per offshore visit; and $4,766 per shipyard visit.

• Submit application for a production safety system with < 25 components—$604 per submission.

• Submit modification to application for production safety system with > 125 components—$561 per submission.

• Submit modification to application for production safety system with 25-125 components—$201 per submission.

• Submit modification to application for production safety system with < 25 components—$85 per submission.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on August 16, 2011, we published a Federal Register notice (76 FR 50748) announcing that we would submit this ICR to OMB for approval. The notice provided the required 60-day comment period. In addition, § 250.199 provides the OMB control number for the information collection requirements imposed by the 30 CFR 250 regulations. The regulation also informs the public that they may comment at any time on the collections of information and provides the address to which they should send comments. We have received one comment in support of this collection; it did not pertain to the paperwork burden.

Public Availability of Comments: Before including your address, phone number, email address, or other personal identifying information in your comment, you should be aware that your entire comment—including your personal identifying information—may be made publicly available at any time. While you can ask us in your comment to withhold your personal identifying information from public review, we cannot guarantee that we will be able to do so.

Dated: October 19, 2011.
Sharon Buffington,
Acting Chief, Office of Offshore Regulatory Programs.

[FR Doc. 2011-28041 Filed 10-28-11; 8:45 am]

BILLING CODE 4310-MR-P